FEDERAL MARITIME COMMISSION

Ocean Transportation Intermediary License; Revocations

The Federal Maritime Commission hereby gives notice that the following ocean transportation intermediary licenses have been revoked pursuant to section 19 of the Shipping Act of 1984 (46 U.S.C. app. 1718) and the regulations of the Commission pertaining to the licensing of Ocean Transportation Intermediaries, effective on the corresponding dates shown below:

License Number: 4599N and 4599F.

Name: AFS Freight Management (USA), Inc. d/b/a AFS Projects and Logistics (USA).

Address: 111 West Ocean Blvd., Suite 1100, Long Beach, CA 90802.

Date Revoked: December 7, 2000 and December 24, 2000.

Reason: Failed to maintain valid bonds.

License Number: 2691N.

Name: Atlas Van Lines, Inc.

Address: 1212 St. George Road, Evansville, IN 47703.

Date Revoked: December 13, 2000.

Reason: Failed to maintain a valid bond.

License Number: 15445N.

Name: Cargocare North America, Ltd.

Address: 3201 Route 38 West, Suite 201, Mount Laurel, NJ 08054.

Date Revoked: December 18, 2000.

Reason: Failed to maintain a valid bond.

License Number: 16420N.

Name: Continental Container Line, Inc.

Address: 182-16 147th Avenue, Jamaica, NY 11413.

Date Revoked: December 7, 2000.

Reason: Failed to maintain a valid bond.

License Number: 16079N.

Name: Internet Shipping Lines, Inc.

Address: 175-41 148th Road, Jamaica, NY 11434.

Date Revoked: December 14, 2000.

Reason: Failed to maintain a valid bond.

License Number: 1470N.

Name: Kenney Transport, Inc.

Address: 145-38 157th Street, Jamaica, NY 11434.

Date Revoked: December 10, 2000.

Reason: Failed to maintain a valid bond.

License Number: 14243N.

Name: Lih Ming Air & Sea Co., Ltd.

Address: 920 Sivert Drive, Wood Dale, IL 60191.

Date Revoked: December 1, 2000.

Reason: Failed to maintain a valid bond.

License Number: 13718N.

Name: Paramount Transportation Services, Inc.

Address: 3216 Rose Walk Ct., Mt. Pleasant, SC 29464.

Date Revoked: December 17, 2000.

Reason: Failed to maintain a valid bond.

License Number: 486.

Name: Ramon Araujo d/b/a Delmar Forwarding.

Address: 180 Broadway, New York, NY 10038.

Date Revoked: November 14 2000.

Reason: Failed to maintain a valid bond.

License Number: 15960N.

Name: Seabreeze Logistics Inc.

Address: 890 Airport Park Road, Suite 118, Glen Burnie, MD 21061.

Date Revoked: December 14, 2000.

Reason: Failed to maintain a valid bond.

License Number: 3369F.

Name: Shelia Perry d/b/a Benchmark Forwarding Company.

Address: 108 Gearge Coggins Road, Newnan, GA 30265.

Date Revoked: December 14, 2000.

Reason: Failed to maintain a valid bond.

Sandra L. Kusumoto,
Director, Bureau of Consumer Complaints and Licensing.

[FR Doc. 01-2192 Filed 1-23-01; 8:45 am]

BILLING CODE 6730-01-P